ENVIRONMENTAL PROTECTION AGENCY

[ER-FRL-9013-3]

Environmental Impact Statements; >Notice of Availability

Responsible Agency: Office of Federal Activities, General Information (202) 564-7146 or http://www.epa.gov/compliance/nepa/

Weekly receipt of Environmental Impact Statements Filed 01/21/2014 Through 01/24/2014 Pursuant to 40 CFR 1506.9.

Notice: Section 309(a) of the Clean Air Act requires that EPA make public its comments on EISs issued by other Federal agencies. EPA's comment letters on EISs are available at: http://www.epa.gov/compliance/nepa/eisdata.html.

EIS No. 20140019, Draft EIS, FRA, NY, High Speed Rail Empire Corridor Tier 1, Comment Period Ends: 03/24/2014, Contact: Michelle W. Fishburne 202-493-0398

EIS No. 20140020, Final EIS, USA, AK, Fort Wainwright Hangars 2 and 3 Disposition, Review Period Ends: 03/03/2014, Contact: Matthew Sprau 907-361-9688

EIS No. 20140021, Draft EIS, USFS, CA, BEH Rangeland Allotments, Comment Period Ends: 03/17/2014, Contact: Crispin Holland 209-532-3671 ext. 274

EIS No. 20140022, Final EIS, BIA, NY, Stockbridge-Munsee Community, Proposed Fee to Trust Conveyance of Property and Casino Project, Review Period Ends: 03/03/2014, Contact: Chester McGhee 615-564-6830

EIS No. 20140023, Draft EIS, USFS, OR, Wolf Fuels and Vegetation Management Project, Comment Period Ends: 03/17/2014, Contact: Jeff Marszal 541-416-6436

EIS No. 20140024, Draft Supplement, USFS, MT, Miller West Fisher Project, Comment Period Ends: 03/17/2014, Contact: Denise Beck 406-293-7773

Amended Notices

EIS No. 20130376, Draft EIS, BLM, WY, Wyoming Greater Sage-Grouse Draft Land Use Plan Amendment, Comment Period Ends: 03/26/2014, Contact: Lisa Solberg Schwab 307-367-5340 Revision to FR Notice Published 12/27/2013; Correction to Comment Period End Date from 2/10/2014 to 3/26/2014

Dated: January 28, 2014.
Aimee S. Hessert,
Deputy Director, NEPA Compliance Division, Office of Federal Activities.

[FR Doc. 2014-02098 Filed 1-30-14; 8:45 am]

BILLING CODE 6560-50-P